DEPARTMENT OF TRANSPORTATION

Federal Highway Administration

Environmental Impact Statement: Los Angeles County, California

AGENCY: Federal Highway Administration (FHWA), DOT.

ACTION: Amended notice of intent.

SUMMARY: The FHWA, on behalf of the California Department of Transportation (Caltrans), is issuing this amended notice to advise the public that a Draft Environmental Impact Statement (EIS) will be prepared for proposed highway improvements on Interstate 605 (I-605). The I-605 Corridor Improvement Project (Project) will consist of improvements on the I-605 corridor from the Interstate 10 (I-10) Interchange to the Interstate 105 (I-105) Interchange. The proposed Project also includes improvements along State Route 60 (SR-60) from Santa Anita Avenue to east of Turnbull Canyon Road, and on Interstate 5 (I-5) from Florence Avenue to Paramount Boulevard in the cities of Baldwin Park, El Monte, City of Industry, Pico Rivera, South El Monte, Whittier, Downey, Norwalk, Santa Fe Springs, and unincorporated Los Angeles County. The Project limits include the I-605/I-5 and I-605/SR-60 corridors. These corridors were previously analyzed as separate projects; however, the Project limits along these corridors are being combined to connect logical termini. A Project Study Report-Project Development Support Study (PSR-PDS) for the I-605/I-5 corridor was approved in July 2014, and a PSR-PDS for the I-605/SR-60 corridor was approved in December 2015 (not attached).

FOR FURTHER INFORMATION CONTACT: Ronald Kosinski, Deputy District Director, Division of Environmental Planning, District 7, 100 South Main Street, Suite 100, Los Angeles, CA 90012, (213) 897-0703.

SUPPLEMENTARY INFORMATION: Effective July 1, 2007, the FHWA assigned, and Caltrans assumed, environmental responsibilities for this Project pursuant to 23 United States Code (U.S.C.) 327. Caltrans will prepare an Environmental Impact Statement (EIS) for the proposed Project. The purpose of the Project is to reduce congestion, improve freeway operations, improve and enhance safety, and improve local and system interchange operations.

Project Description

The Project proposes widening along the southbound and northbound I-605 corridor from the I-10 Interchange to the I-105 Interchange. The proposed Project includes improvements along SR-60 from Santa Anita Avenue to east of Turnbull Canyon Road, and on I-5 from Florence Avenue to Paramount Boulevard. The study area includes the cities of Baldwin Park, El Monte, City of Industry, Pico Rivera, South El Monte, Whittier, Downey, Norwalk, Santa Fe Springs, and unincorporated Los Angeles County. Improvements to local streets and interchanges may be required as part of the Project including the following interchanges that would be affected: I-605/Imperial Highway, I-605/Firestone Boulevard, I-605/Telegraph Road, I-605/Slauson Avenue, I-605/Florence Ave., I-605/Washington Boulevard, I-605/Whittier Boulevard, I-605/Beverly Boulevard, I-605/Rose Hills Road, I-605/Peck Road, I-605/SR-60, I-605/Valley Boulevard, SR-60/Peck Road, SR-60/7th Ave., I-5/Florence Ave., I-5/Lakewood Boulevard, I-5/Paramount Blvd., and I-605/I-5 Interchanges.

The following Project alternatives are under consideration.

Alternative 1: No Build Alternative

In this alternative, there would be no reconstruction or improvements to the I-605 corridor. Within the Project limits, I-605 would continue to have four mixed flow lanes that are 11-feet wide, with 2-foot-wide median shoulders, plus one high-occupancy vehicle (HOV) lane and a 1-foot-wide HOV buffer.

Alternative 2: Standard Alternative (Lane/Shoulder Widths)

This alternative includes adding mixed flow or HOV lanes as well as auxiliary lanes where additional capacity is required on southbound and northbound I-605 from I-10 to I-105, and along SR-60 from Santa Anita Avenue to east of Turnbull Canyon Road. This Project will also be adding one HOV lane in each direction along I-5 from Florence Avenue to Paramount Boulevard and auxiliary lanes where necessary. These improvements would implement standard lane widths and shoulders, consistent with the Caltrans Highway Design Manual for the mainline freeway, connectors, and ramps. Right-of-way (ROW) acquisitions would be necessary to accommodate these improvements.

This alternative will have additional design variations, which would provide optional lane use (general purpose, HOV, on and off ramp modifications, and other operational improvements.

Alternative 3: Reduced Standard Alternative (Lane/Shoulder Widths)

Alternative 3 includes many of the design elements identified in Alternative 2 on I-605, SR-60, and I-5 with design variations, which would provide optimal lane use to reduced ROW impacts. This alternative includes adding mixed flow or HOV lanes as well as auxiliary lanes, where additional capacity is required, on southbound and northbound I-605 from I-10 to I-105. The Project also includes adding mixed flow and auxiliary lanes, where additional capacity is required, along SR-60 from Santa Anita Avenue to east of Turnbull Canyon Road and adding one HOV lane in each direction on I-5 from Florence Avenue to Paramount Boulevard.

This alternative will have additional design variations, which provide optional lane use such as general purpose, HOV, optional on and off ramp modifications, and other operational improvements. These alternatives may be refined or be removed from further consideration, as engineering and environmental analysis is conducted for the Project.

Alternative 4: Transportation Systems Management/Transportation Demand Management (TSM/TDM)

The TSM/TDM Alternative would add transportation system and demand management techniques to existing features within the Project limits. Improvements that may be included as part of this alternative are additional ramp metering, improved signal timing, increased transit service, improved signage, development of rideshare/carpool programs, and installation of intelligent transportation systems.

Analysis supporting the Environmental Impact Statement (EIS) will determine the improvements necessary to meet the existing and future transportation needs in the corridor.

The following permits/approvals may be required to construct the Project:

• 33 U.S.C. 408 Section 408 Permit (United States (U.S.) Army Corps of Engineers)

• Clean Water Act (CWA) Section 404 Permit (U.S. Army Corps of Engineers)

• Section 1602 Agreement (California Department of Fish and Wildlife)

• National Pollutant Discharge Elimination System (NPDES) Permit

• Caltrans Statewide Permit and Construction General Permit

• CWA Section 401 Water Quality Certification and/or Waste Discharge Requirement (WDR) (Regional Water Quality Control Board)

• South Coast Air Quality Management District (SCAQMD) Rules 403, 1403, and 1166

• Clean Air Act, Transportation Conformity Determination (FHWA; Caltrans)

• Section 106 Compliance with National Historic Preservation Act

• Section 7 Consultation with U.S. Fish and Wildlife Service in the event that Federally-listed species are affected

• Union Pacific Railroad (UPRR) Memorandum of Agreement

• Various City Encroachment Permits

Caltrans will be holding public scoping meetings to provide an overview of the Project, summarize the environmental process, and receive input regarding the environmental issues and the suggested scope and content of the EIS. These meetings will include separate agency and public scoping. Please refer to the table below for meeting dates and locations:

Scoping and Agency Meetings
City | Date | Time | Location
Downey | Monday, Oct. 24, 2016 | 6:30 p.m.-8:30 p.m. | Public Scoping Meeting, Embassy Suites Los Angeles-Downey, Diplomat/Consulate Room, 8425 Firestone Blvd., Downey, CA 90241.
Santa Fe Springs | Wednesday, Oct. 26, 2016 | 3:00 p.m.-4:30 p.m. | Agency Scoping Meeting, Gus Velasco Neighborhood Center, 9255 South Pioneer Blvd., Santa Fe Springs, CA 90670.
Santa Fe Springs | Wednesday, Oct. 26, 2016 | 6:30 p.m.-8:30 p.m. | Public Scoping Meeting, Gus Velasco Neighborhood Center, 9255 South Pioneer Blvd., Santa Fe Springs, CA 90670.
Norwalk | Thursday, Oct. 27, 2016 | 6:30 p.m.-8:30 p.m. | Public Scoping Meeting, Norwalk Assembly of God Church, 11129 Pioneer Blvd., Norwalk, CA 90650.
City of Industry | Tuesday, Nov. 1, 2016 | 6:30 p.m.-8:30 p.m. | Public Scoping Meeting, Industry Hills Expo Center, 16200 Temple Avenue, City of Industry, CA 91744.
South El Monte | Wednesday, Nov. 2, 2016 | 6:30 p.m.-8:30 p.m. | Public Scoping Meeting, South El Monte Senior Center, 1556 Central Ave., South El Monte, CA 91733.
Whittier | Thursday, Nov. 3, 2016 | 6:30 p.m.-8:30 p.m. | Public Scoping Meeting, Palm Park, Palm A-B Room, 5703 Palm Ave., Whittier, CA 90601.
Whittier | Thursday, Nov. 3, 2016 | 3:00 p.m.-4:30 p.m. | Agency Scoping Meeting, Palm Park, Palm A-B Room, 5703 Palm Ave., Whittier, CA 90601.

Letters describing the proposed action and soliciting comments will be sent to appropriate Federal, State, and Participating Agencies; tribal governments and local agencies and private organizations and citizens who have previously expressed or are known to have interest in this proposal. The Draft EIS is anticipated to be available for public and agency review and comment in mid-2019. Public meetings will be held in study area communities during the public and agency review and comment period. In addition, public hearings will be held for the Project. Public notice will be given for the time and place of the public meetings and hearings. The Draft EIS will be available for public and agency review and comment prior to the public hearings.

To ensure that the full range of issues related to this proposed action is addressed and all significant concerns are identified, comments and suggestions are invited from all interested parties. Comments or questions about this proposed action and the EIS should be directed to Caltrans at the address provided above.

(Catalog of Federal Domestic Assistance Program Number 20.205, Highway Planning and Construction. The regulations implementing Executive Order 12372 regarding intergovernmental consultation on Federal programs and activities apply to this program.)

Issued on: October 11, 2016.
Josué M. Yambó,
Senior Transportation Engineer, Project Delivery Division, Federal Highway Administration, Sacramento, California.

[FR Doc. 2016-25216 Filed 10-18-16; 8:45 am]

BILLING CODE 4910-22-P